DEPARTMENT OF JUSTICE

Notice of Lodging of Consent Decree Under the Comprehensive Environmental Response, Compensation, and Liability Act

Notice is hereby given that on September 23, 2009, an electronic version of a proposed Consent Decree was lodged in the United States District Court for the District of Arizona in United States v. Apache Nitrogen Products, Inc., No. 4:09-CV-00542-JMR. The Consent Decree settles the United States' claims against Apache Nitrogen Products (“Apache”) under sections 106 and 107 of the Comprehensive Environmental Response, Compensation, and Liability Act, as amended, (“CERCLA”), 42 U.S.C. 9606 & 9607, in connection with the Apache Powder Superfund Site outside of Bensen, Arizona.

Under the terms of the proposed Consent Decree, Apache will perform the remaining work at the Site, will pay $1,200,000 out of $7 million in past response costs, and will pay all future EPA oversight after the first $200,000. Apache will also relinquish a claim for reimbursement from the Superfund under 106(b) of CERLA, 42 U.S.C. 9706(b).

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Apache Nitrogen Products, Inc., No. 4:09-CV-00542-JMR and DOJ #90-11-2-1088.

The Consent Decree may be examined at the Office of the United States Attorney for the District of Arizona, 405 W. Congress Street, Suite 4800, Tucson, AZ 85701-5040. During the public comment period, the Consent Decree may also be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $74.50 (25 cents per page reproduction cost) payable to the U.S. Treasury.

Maureen Katz,
Assistant Section Chief, Environmental Enforcement Section, Environment and Natural Resources Division.

[FR Doc. E9-23928 Filed 10-2-09; 8:45 am]

BILLING CODE 4410-15-P